DEPARTMENT OF COMMERCE

National Oceanic and Atmospheric Administration

RIN 0648-XF716

Fisheries of the South Atlantic; South Atlantic Fishery Management Council; Public Meeting

AGENCY: National Marine Fisheries Service, National Oceanic and Atmospheric Administration, Commerce.

ACTION: Notice of a public meeting.

SUMMARY: The South Atlantic Fishery Management Council (Council) will hold a meeting of its Habitat Protection and Ecosystem-Based Management (Habitat) Advisory Panel (AP) in St. Petersburg, FL. The meeting is open to the public.

DATES: The meeting will be held on Tuesday, November 14, 2017, from 9 a.m. to 4:30 p.m., Wednesday, November 15, 2017, from 9 a.m. until 4:30 p.m., and Thursday, November 16, 2017, from 9 a.m.to 12 noon.

ADDRESSES:

Meeting address: The meeting will be held at the Florida Fish and Wildlife Research Institute, 100 Eighth Avenue SE., St. Petersburg, FL 33701; phone: (727) 896-8626.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone: (843) 571-4366 or toll free (866) SAFMC-10; fax: (843) 769-4520; email: kim.iverson@safmc.net.

SUPPLEMENTARY INFORMATION: Items to be addressed or sessions to be conducted during this meeting include: Draft Fishery Ecosystem Plan (FEP) II Implementation Plan; FEP II Dashboard links and tools; the SAFMC Ecospecies Species Information System; the Council's Habitat and Ecosystem Atlas/Dashboard; and South Atlantic Ecosystem Modeling.

Members of the AP will discuss items and provide recommendations as appropriate.

Special Accommodations

The meeting is physically accessible to people with disabilities. Requests for auxiliary aids should be directed to the council office (see ADDRESSES) 5 days prior to the meeting.

Note: The times and sequence specified in this agenda are subject to change.

Dated: October 18, 2017.
Tracey L. Thompson,
Acting Deputy Director, Office of Sustainable Fisheries, National Marine Fisheries Service.

[FR Doc. 2017-22900 Filed 10-20-17; 8:45 am]

BILLING CODE 3510-22-P